NATIONAL CREDIT UNION ADMINISTRATION

Sunshine Act Meeting

Time and Date: 10 a.m., Thursday, December 15, 2005.

Place: Board Room, 7th Floor, Room 7047, 1775 Duke Street, Alexandria, VA 22314-3428.

Status: Open.

Matters to be Considered: 1. National Credit Union Share Insurance Fund (NCUSIF) Operating Level for 2006.

2. Proposed Rule: Section 701.2(h) of NCUA's Rules and Regulations, Third-Party Servicing of Indirect Vehicle Loans.

3. Final Rule: Part 723 of NCUA's Rules and Regulations, Member Business Loans.

4. Final Rule: Section 741.8 of NCUA's Rules and Regulations, Purchase of Assets and Assumptions of Liabilities.

Recess: 11:15 a.m.

Time and Date: 11:30 a.m., Thursday, December 15, 2005.

Place: Board Room, 7th Floor, Room 7047, 1775 Duke Street, Alexandria, VA 22314-3428.

Status: Closed.

Matters to be Considered: 1. One (1) Insurance Appeal. Closed pursuant to Exemptions (6) and (9)(B).

2. One (1) Personnel Matter. Closed pursuant to Exemptions (2) and (6).

Mary Rupp,
Secretary of the Board.

[FR Doc. 05-24005 Filed 12-8-05; 4:12 pm]

BILLING CODE 7535-01-M